DEPARTMENT OF LABOR

Employment and Training Administration

[TA-W-65,791]

Commercial Vehicle Group/Trim Systems, Dublin, VA; Notice of Termination of Investigation

Pursuant to Section 221 of the Trade Act of 1974, as amended, an investigation was initiated on April 14, 2009 in response to a petition filed by a company official on behalf of workers at Commercial Vehicle Group/Trim Systems, Dublin, Virginia. The workers at the subject facility produce truck interiors.

The petitioner has requested that the petition be withdrawn. Consequently, the investigation has been terminated.

Signed in Washington, DC, this 20th day of May 2009.
Richard Church,
Certifying Officer, Division of Trade Adjustment Assistance.

[FR Doc. E9-15295 Filed 6-26-09; 8:45 am]

BILLING CODE 4510-FN-P